DEPARTMENT OF HEALTH AND HUMAN SERVICES

Food and Drug Administration

[Docket No. 2003F-0370]

Unilever United States, Inc.; Filing of Food Additive Petition

AGENCY: Food and Drug Administration, HHS.

ACTION: Notice.

SUMMARY: The Food and Drug Administration (FDA) is announcing that Unilever United States, Inc., has filed a petition proposing that the food additive regulations be amended to provide for the safe use of vitamin D3 as a nutrient supplement in certain foods for special dietary use, such as meal replacement products and snack replacement products.

FOR FURTHER INFORMATION CONTACT: Judith L. Kidwell, Center for Food Safety and Applied Nutrition (HFS-265), Food and Drug Administration, 5100 Paint Branch Pkwy., College Park, MD 20740-3835, 202-418-3354.

SUPPLEMENTARY INFORMATION: Under the Federal Food, Drug, and Cosmetic Act (sec. 409(b)(5) (21 U.S.C. 348(b)(5))), notice is given that a food additive petition (FAP No. 3A4746) has been filed by Unilever United States, Inc., 390 Park Ave., New York, NY 10022-4698. The petition proposes to amend the food additive regulations in § 172.380 Vitamin D3 (21 CFR 172.380) to provide for the safe use of vitamin D3 in certain foods for special dietary use, such as meal replacement products and snack replacement products.

The agency has determined under 21 CFR 25.32(k) that this action is of a type that does not individually or cumulatively have a significant effect on the human environment. Therefore, neither an environmental assessment nor an environmental impact statement is required.

Dated: August 1, 2003.
Laura M. Tarantino,
Acting Director, Office of Food Additive Safety, Center for Food Safety and Applied Nutrition.

[FR Doc. 03-21396 Filed 8-20-03; 8:45 am]

BILLING CODE 4160-01-S